ENVIRONMENTAL PROTECTION AGENCY

[ER-FRL-9053-9]

Environmental Impact Statements; Notice of Availability

Responsible Agency: Office of Federal Activities, General Information 202-564-5632 or https://www.epa.gov/nepa.

Weekly receipt of Environmental Impact Statements (EIS)

Filed November 9, 2020 10 a.m. EST Through November 16, 2020 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200225, Final, USFWS, REG, The Management of Conflicts Associated with Double-crested Cormorants, Review Period Ends: 12/21/2020, Contact: Lesley Kordella 703-358-1963.

EIS No. 20200227, Draft Supplement, BOP, KS, Proposed Federal Correctional Institution and Federal Prison Camp Leavenworth, Kansas, Comment Period Ends: 01/04/2021, Contact: Kimberly Hudson 202-616-2574.

EIS No. 20200228, Draft, BR, WA, Leavenworth National Fish Hatchery Surface Water Intake Fish Screens and Fish Passage Project, Comment Period Ends: 01/04/2021, Contact: Jason Sutter 208-378-5390.

EIS No. 20200229, Final Supplement, BLM, CO, Northwest Colorado Final Supplemental EIS, Greater Sage-Grouse 2020, Review Period Ends: 12/21/2020, Contact: Leah Waldner 970-244-3045.

EIS No. 20200230, Final Supplement, BLM, ID, Idaho Final Supplemental EIS, Greater Sage-Grouse 2020, Review Period Ends: 12/21/2020, Contact: Pam Murdock 208-373-4050.

EIS No. 20200231, Final Supplement, BLM, BLM, NV, Nevada and Northeastern California Final Supplemental EIS, Greater Sage-Grouse 2020, Review Period Ends: 12/21/2020, Contact: Colleen Dulin 775-861-6708.

EIS No. 20200232, Final Supplement, BLM, OR, Oregon Final Supplemental EIS, Greater Sage-Grouse 2020, Review Period Ends: 12/21/2020, Contact: Jim Regan-Vienop 503-808-6062.

EIS No. 20200233, Final Supplement, BLM, UT, Utah Final Supplemental EIS, Greater Sage-Grouse 2020, Review Period Ends: 12/21/2020, Contact: Christine Fletcher 435-865-3035.

EIS No. 20200234, Final Supplement, BLM, WY, Wyoming Final Supplemental EIS, Greater Sage-Grouse 2020, Review Period Ends: 12/21/2020, Contact: Jennifer Marzluf 307-775-6090.

EIS No. 20200235, Final Supplement, BR, CA, Shasta Lake Water Resources Investigation, Review Period Ends: 12/21/2020, Contact: David Brick 916-202-7158.

EIS No. 20200236, Final Supplement, USACE, AL, Allatoona Lake Water Supply Storage Reallocation Study and Updates to Weiss and Logan Martin Reservoirs Project Water Control Manuals, Alabama and Georgia (or Allatoona-Coosa Reallocation Study), Review Period Ends: 12/21/2020, Contact: Mr. Mike Malsom 251-690-2023.

EIS No. 20200237, Draft Supplement, FHWA, OR, Hood River—White Salmon Interstate Bridge Replacement Project, Comment Period Ends: 01/04/2021, Contact: Emily Cline 503-316-2547.

Amended Notice

EIS No. 20200226, Final, USFS, CO, Pike & San Isabel National Forests Motorized Travel Management (MVUM) Analysis, Review Period Ends: 12/21/2020, Contact: John Dow 719-250-5311.

Revision to FR Notice Published 11/6/2020; Correction to CEQ Number from 20200217 to 20200226.

Dated: November 17, 2020.
Cindy S. Barger,
Director, NEPA Compliance Division, Office of Federal Activities.

[FR Doc. 2020-25652 Filed 11-19-20; 8:45 am]

BILLING CODE 6560-50-P